NATIONAL SCIENCE FOUNDATION

Proposal Review Panel for Physics; Notice of Meeting

In accordance with the Federal Advisory Committee Act (Pub. L. 92-463, as amended), the National Science Foundation (NSF) announces the following meeting:

Name and Committee Code: LIGO Annual Review of Operations Virtual Site Visit for the Division of Physics (1208).

Date and Time: June 16, 2020; 7:00 a.m.-4:00 p.m.

Place: California Institute of Technology, 1200 E California Blvd., Pasadena, CA 91125.

Type of Meeting: Part-Open.

Contact Person: Mark Coles, Program Director, Division of Physics, National Science Foundation, 2415 Eisenhower Avenue, Room W 9219, Alexandria, VA 22314; Telephone: (703) 292-4432.

Purpose of Meeting: Virtual site visit to provide an evaluation of the progress of the projects at the host site for the Division of Physics at the National Science Foundation.

Agenda (All Times PDT)

7:00 a.m.-7:30 a.m.

Executive Session (Closed)

7:30 a.m.-8:30 a.m.

Operations and Maintenance, Management

8:30 a.m.-9 00 a.m.

Interferometer Performance Enhancements

9:00 a.m.-9:10 a.m.

Break

9:10 a.m.-9:40 a.m.

EPO

9:40 a.m.-10:00 a.m.

A+ Upgrade

10:00 a.m.-10:30 a.m.

LSC

10:30 a.m.-11:00 a.m.

LIGO Computing and LSC

11:00 a.m.-11:30 a.m.

Lunch

11:30 a.m.-12:30 p.m.

Q&A

12:30 p.m.-2:00 p.m.

Executive Session (Closed)

2:00 p.m.-4:00 p.m.

Closeout presentation summary by panel

Reason for Closing: The work being reviewed during closed portions of the virtual site visit include information of a proprietary or confidential nature, including technical information; financial data, such as salaries and personal information concerning individuals associated with the project. These matters are exempt under 5 U.S.C. 552b(c), (4) and (6) of the Government in the Sunshine Act.

Dated: May 5, 2020.
Crystal Robinson,
Committee Management Officer.

[FR Doc. 2020-09902 Filed 5-7-20; 8:45 am]

BILLING CODE 7555-01-P